NUCLEAR REGULATORY COMMISSION

[Docket Nos. 52-025 and 52-026; NRC-2014-0208]

Vogtle Electric Generating Plant, Units 3 and 4; Southern Nuclear Operating Company; Reclassification of Portions of Human Factors Verification and Validation Planning Documents

AGENCY: Nuclear Regulatory Commission.

ACTION: Exemption and combined license amendment; issuance.

SUMMARY: The U.S. Nuclear Regulatory Commission (NRC) is granting an exemption to allow a departure from the certification information of Tier 2* of the generic design control document (DCD) and issuing License Amendment No. 22 to Combined Licenses (COL), NPF-91 and NPF-92. The COLs were issued to Southern Nuclear Operating Company (SNC), Georgia Power Company, Oglethorpe Power Corporation, Municipal Electric Authority of Georgia, and City of Dalton, Georgia (the licensee), for construction and operation of the Vogtle Electric Generating Plant, Units 3 and 4, located in Burke County, Georgia. The amendment revises the updated final safety analysis report (UFSAR) by reclassifying portions of the five Tier 2* Human Factors & Validation (V&V) Technical Reports listed in UFSAR Table 1.6-1 and Chapter 18, Subsection 18.11.2.

The granting of the exemption allows the changes to Tier 2* information asked for in the amendment. Because the acceptability of the exemption was determined in part by the acceptability of the amendment, the exemption and amendment are being issued concurrently.

ADDRESSES: Please refer to Docket ID NRC-2014-0208 when contacting the NRC about the availability of information regarding this document. You may obtain publicly-available information related to this document using any of the following methods:

• Federal Rulemaking Web site: Go to http://www.regulations.gov and search for Docket ID NRC-2014-0208. Address questions about NRC dockets to Carol Gallagher; telephone: 301-287-3422; email: Carol.Gallagher@nrc.gov. For technical questions, contact the individual listed in the FOR FURTHER INFORMATION CONTACT section of this document.

• NRC's Agencywide Documents Access and Management System (ADAMS): You may access publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced. The request for the amendment was submitted by the letter dated November 27, 2013 (ADAMS Accession No. ML13331B502). The request for the exemption was submitted by the letter dated March 7, 2014 (ADAMS Accession No. ML14066A412). The licensee supplemented this request by letters dated May 23 (ADAMS Accession No. ML14143A112), and July 18, 2014 (ADAMS Accession No. ML14199A633).

• NRC's PDR: You may examine and purchase copies of public documents at the NRC's PDR, Room O1-F21, One White Flint North, 11555 Rockville Pike, Rockville, Maryland 20852.

FOR FURTHER INFORMATION CONTACT: Ravindra Joshi, Office of New Reactors, U.S. Nuclear Regulatory Commission, Washington, DC 20555-0001; telephone: 301-415-6191; email: Ravindra.Joshi@nrc.gov.

SUPPLEMENTARY INFORMATION:

I. Introduction

The NRC is granting an exemption from Paragraph B of Section III, “Scope and Contents,” of Appendix D, “Design Certification Rule for the AP1000,” to part 52 of Title 10 of the Code of Federal Regulations (10 CFR) and issuing License Amendment No. 22 to COLs, NPF-91 and NPF-92, to the licensee. The exemption is required by Paragraph B.6.c of Section VIII, “Processes for Changes and Departures,” Appendix D to 10 CFR part 52 to allow the licensee to depart from Tier 2* information. With the requested amendment, the licensee sought changes to the UFSAR by reclassifying portions of the five Tier 2* Human Factors V&V Technical Reports listed in UFSAR Table 1.6-1 and Chapter 18, Subsection 18.11.2.

Part of the justification for granting the exemption was provided by the review of the amendment. Because the exemption is necessary in order to issue the requested license amendment, the NRC granted the exemption and issued the amendment concurrently, rather than in sequence. This included issuing a combined safety evaluation containing the NRC staff's review of both the exemption request and the license amendment. The exemption met all applicable regulatory criteria set forth in 10 CFR 50.12, 10 CFR 52.7, and 52.63(b)(1). The license amendment was found to be acceptable as well. The combined safety evaluation is available in ADAMS under Accession No. ML14073A770.

Identical exemption documents (except for referenced unit numbers and license numbers) were issued to the licensee for VEGP Units 3 and 4 (COLs NPF-91 and NPF-92). These documents can be found in ADAMS under Accession Nos. ML14073A764 and ML14073A765, respectively. The exemption is reproduced (with the exception of abbreviated titles and additional citations) in Section II of this document. The amendment documents for COLs NPF-91 and NPF-92 are available in ADAMS under Accession Nos. ML14073A758 and ML14073A761, respectively. A summary of the amendment documents is provided in Section III of this document.

II. Exemption

Reproduced below is the exemption document issued to VEGP Units 3 and 4. It makes reference to the combined safety evaluation that provides the reasoning for the findings made by the NRC (and listed under Item 1) in order to grant the exemption:

1. In a letter dated November 27, 2013 and supplemented by the letters dated March 7, May 23, and July 18, 2014, Southern Nuclear Operating Company (licensee) requested from the Nuclear Regulatory Commission (Commission) an exemption from the provisions of Title 10 of the Code of Federal Regulations (10 CFR) part 52, Appendix D, Section III.B, “Design Certification Rule for the AP1000 Design, Scope, and Contents,” as part of license amendment request (LAR) 13-034, “Reclassification of Portions of Human Factors Verification and Validation of Planning Documents” (LAR 13-034).

For the reasons set forth in Section 3.1 of the NRC staff Safety Evaluation, which can be found at Agencywide Documents Access and Management System (ADAMS) Accession Number ML14073A770, the Commission finds that:

A. The exemption is authorized by law;

B. the exemption presents no undue risk to public health and safety;

C. the exemption is consistent with the common defense and security;

D. special circumstances are present in that the application of the rule in this circumstance is not necessary to serve the underlying purpose of the rule;

E. the special circumstances outweigh any decrease in safety that may result from the reduction in standardization caused by the exemption; and

F. the exemption will not result in a significant decrease in the level of safety otherwise provided by the design.

2. Accordingly, the licensee is granted an exemption to the provisions of 10 CFR part 52, Appendix D, Section III.B, to allow deviations from the certified Design Control Document (DCD) Tier 2* information, as described in the licensee's request dated November 27, 2013 and supplemented by the letters dated March 7, May 23, and July 18, 2014. This exemption is related to, and necessary for the granting of License Amendment No. 22, which is being issued concurrently with this exemption.

3. As explained in Section 5 of the NRC staff Safety Evaluation (ADAMS Accession Number ML14073A770), this exemption meets the eligibility criteria for categorical exclusion set forth in 10 CFR 51.22(c)(9). Therefore, pursuant to 10 CFR 51.22(b), no environmental impact statement or environmental assessment needs to be prepared in connection with the issuance of the exemption.

4. This exemption is effective as of September 3, 2014.

III. License Amendment Request

The request for the amendment was submitted by the letter dated November 27, 2013 (ADAMS Accession No. ML13331B502). The request for the exemption was submitted by the letter dated March 7, 2014 (ADAMS Accession No. ML14066A412). The licensee supplemented this request by letters dated May 23 (ADAMS Accession No. ML14143A112), and July 18, 2014 (ADAMS Accession No. ML14199A633). The proposed license amendment request revises the UFSAR by reclassifying portions of the five Tier 2* Human Factors V&V Technical Reports listed in UFSAR Table 1.6-1 and Chapter 18, Subsection 18.11.2.

The Commission has determined for these amendments that the application complies with the standards and requirements of the Atomic Energy Act of 1954, as amended (the Act), and the Commission's rules and regulations. The Commission has made appropriate findings as required by the Act and the Commission's rules and regulations in 10 CFR Chapter I, which are set forth in the license amendment.

A notice of consideration of issuance of amendment to facility operating license or combined license, as applicable, proposed no significant hazards consideration determination, and opportunity for a hearing in connection with these actions, was published in the Federal Register on January 21, 2014 (79 FR 3417). No comments were received during the 60-day comment period.

The Commission has determined that these amendments satisfy the criteria for categorical exclusion in accordance with 10 CFR 51.22(c)(9). Therefore, pursuant to 10 CFR 51.22(b), no environmental impact statement or environmental assessment need be prepared for these amendments.

IV. Conclusion

Using the reasons set forth in the combined safety evaluation, the staff granted the exemption and issued the amendment that the licensee requested on November 27, 2013, and supplemented by letters dated March 7, May 23, and July 18, 2014. The exemption and amendment were issued on September 3, 2014 as part of a combined package to the licensee (ADAMS Accession No. ML14073A752).

Dated at Rockville, Maryland, this 22nd day of September, 2014.
For the Nuclear Regulatory Commission.
David H. Jaffe,
Acting Chief, Licensing Branch 4, Division of New Reactor Licensing, Office of New Reactors.

[FR Doc. 2014-23032 Filed 9-25-14; 8:45 am]

BILLING CODE 7590-01-P